DEPARTMENT OF AGRICULTURE

Animal and Plant Health Inspection Service

[Docket No. APHIS 2006-0030]

National Animal Identification System (NAIS); Implementation Plan and Integration of Private and State Animal Tracking Databases With the NAIS

AGENCY: Animal and Plant Health Inspection Service, USDA.

ACTION: Notice of availability.

SUMMARY: This notice announces the availability of three documents related to the National Animal Identification System (NAIS): A document that provides an update on the implementation plans, including operational milestones and participation goals; a document describing how private and State animal tracking databases may be integrated into the NAIS to provide animal health officials with animal movement information on an as-needed basis; and, in connection with the animal tracking databases document, a template for a cooperative agreement that the Animal and Plant Health Inspection Service may enter into with organizations that wish to participate in the animal tracking database component of the NAIS.

FOR FURTHER INFORMATION CONTACT: Mr. Neil Hammerschmidt, National Coordinator, National Animal Identification System, VS, APHIS, 4700 River Road Unit 200, Riverdale, MD 20737-1231; (301) 734-5571.

SUPPLEMENTARY INFORMATION:

Background

As part of ongoing efforts to safeguard animal health, the U.S. Department of Agriculture (USDA) initiated implementation of the National Animal Identification System (NAIS) in 2004. The NAIS is a cooperative State-Federal-industry program administered by USDA's Animal and Plant Health Inspection Service (APHIS). The main objective of the NAIS is to develop and implement a comprehensive information system which will support ongoing animal disease programs and enable State and Federal animal health officials to respond rapidly and effectively to animal health emergencies such as foreign animal disease outbreaks or emerging domestic diseases.

The NAIS is being developed to facilitate rapid tracing in the event of an outbreak of an animal disease of concern. Working groups have been formed and are developing plans for camelids (llamas and alpacas), cattle and bison, cervids (deer and elk), equine, goats, poultry, sheep, and swine. The ultimate long-term goal of the NAIS is to provide State and Federal officials with the capability to identify all animals and premises that have had direct contact with a disease of concern within 48 hours after discovery. A document providing an update on the implementation plans for the NAIS, titled “National Animal Identification System (NAIS)—Strategies for the Implementation of NAIS,” is available at http://www.usda.gov/nais or at http://www.regulations.gov. Paper copies also may be requested by calling or writing to the person listed under FOR FURTHER INFORMATION CONTACT. Please refer to the title of the document when requesting copies.

Currently a voluntary system, the NAIS will be established through a phased-in approach by implementing three key components: Premises registration, animal identification, and animal tracking. The USDA has already developed information systems to support the first two components. The third component will developed through a government/industry partnership, in which animal movement information will be maintained in private and/or State databases and made available to APHIS as needed in specific situations to trace animal movements.

The USDA's objective is to support the privatization of the animal tracking information component of the NAIS in the most practical and timely and least burdensome manner possible. We have determined that this can best be achieved by establishing a system that will allow the Federal Government to access information in multiple databases through a single portal, using a metadata layer (or portal) architecture.

A document entitled “Integration of Private and State Animal Tracking Databases with the NAIS; Interim Development Phase,” presents our initial plans for moving forward with the implementation of this system. The document describes the Animal Trace Processing System (ATPS), a system for processing animal movement data. A two-phase plan for implementing the ATPS is also described. The plan consists of an interim/development phase, which is set to begin in 2006, and an implementation phase, which is targeted for early 2007. Finally, the document provides data standards and technical requirements and specifications that databases must meet to be eligible for participation in the interim phase.

The ATPS, which will be managed by APHIS, is an information system that includes the metadata portal or system and related functionality for processing the animal movement records returned to APHIS from participating animal tracking databases (ATDs) within our Animal Health Information System. The ATPS will also provide the security, the interfaces and communication platform, and the auditing process for participating ATDs, and will enable us to integrate other relevant data from other APHIS-managed systems within the APHIS” Animal Health Information System. The ATPS will be utilized by both Federal and State animal health officials to submit queries to the ADTs.

Metadata is usually defined as “data about the data.” Using the metadata portal architecture, the Federal Government would regularly and routinely receive information from each participating NAIS database about which animal and premises identification numbers were tracked in each database, but would receive animal movement information only when such data are needed to support an animal disease program or investigation. In such a situation, the Federal Government's part of the system would query only those source systems that contain the animal and premises identification numbers needed. Other systems would not need to be queried, which would lessen the input and output burden on those systems. No animal movement records would be stored permanently by the metadata portal.

The metadata system would provide the greatest flexibility for affected industries and stakeholders. While organizations that wish to consolidate their tracking data could still do so, and would be encouraged to do so, most of the existing industry and State systems would be able to continue collecting and storing information in much the same way they do now.

To “jump start” the integration of private and State ATDs into the NAIS, APHIS has designed an interim/development phase that will allow interested organizations to participate in early 2006. During this interim/development phase, APHIS will enter into a cooperative agreement (CA) for the integration of the ATD with any organization that has a qualifying database(s) and that wishes to support the advancement of the integration of private and State animal tracking/movement systems into the NAIS.

Included in the current document are the data standards and technical requirements and specifications that an organization's ATDs must meet to be eligible to participate in the interim/ development phase of the ATPS. Organizations must complete the “Request for Evaluation of Interim Private/State Animal Tracking Database” to initiate an APHIS review of their systems. If its system meets the interim requirements, an organization may elect to enter into a CA with APHIS. The CA will ensure that animal health officials have access to the information contained in the ATD when necessary to perform their duties. Entering into a CA does not imply that an organization's ATD will be eligible to participate in the NAIS as a fully compliant system after ATPS implementation is completed and final eligibility requirements are established.

During the interim/development phase, APHIS, in cooperation with stakeholders, will continue to develop the complete requirements for the integration of private and State ATDs with the NAIS. Systems that meet these specifications will be defined as “NAIS Compliant Animal Tracking Databases” upon the signing of the agreement with the organization responsible for the information system. It is anticipated that the requirements for compliant systems will be completed by late 2006, and actual integration, by early 2007.

APHIS will establish an agreement with each participating organization that maintains a database with animal tracking information and that elects to provide access to the information according to the NAIS requirements. In addition to outlining data elements and access and operating procedures, the agreement will also stipulate how movement data will be archived and transferred in the event the organization and/or technology company ceases business or elects to discontinue the operation of the ATD.

The document regarding the integration of private and state ATDs with the NAIS, and a template of the CA, may be viewed on the Internet at http://www.usda.gov/nais or at http://www.regulations.gov. You may request paper copies of the document by calling or writing to the person listed under FOR FURTHER INFORMATION CONTACT. Please refer to the title of the document (“Integration of Private and State Animal Tracking Databases with the NAIS; Interim Development Phase”) when requesting copies.

Done in Washington, DC, this 5th day of April 2006.
W. Ron DeHaven,
Administrator, Animal and Plant Health Inspection Service.

[FR Doc. 06-3412 Filed 4-6-06; 8:45 am]

BILLING CODE 3410-34-P